DEPARTMENT OF COMMERCE

National Oceanic and Atmospheric Administration

Federal Consistency Appeal by Islander East Pipeline Company From an Objection by the Connecticut Department of Environmental Protection

Correction

In notice document 03-7016 beginning on page 14400 in the issue of Tuesday, March 25, 2003, make the following corrections:

1. On page 14400, in the third column, under the heading DATES, in the fourth line, “will extended” should read, “will be extended”.

2. On the same page, in the same column, under the same heading, in the ninth line, “recommended” should read, “recommenced”.

3. On page 14401, in the first column, under the heading SUPPLEMENTARY INFORMATION, in the second paragraph, in the seventh line, “stay on” should read, “stay was granted on”.

[FR Doc. C3-7016 Filed 3-27-03; 8:45 am]

BILLING CODE 1505-01-D